FEDERAL COMMUNICATIONS COMMISSION

47 CFR Part 73

[MB Docket No. 02-376, RM-10617, RM-10690; DA 16-1062]

Radio Broadcasting Services; Sells, Willcox, and Davis-Monthan Air Force Base, Arizona

AGENCY: Federal Communications Commission.

ACTION: Final rule; dismissal of application for review.

SUMMARY: In this document, the Media Bureau (Bureau) dismisses as moot the Application for Review filed jointly by KZLZ, LLC (KZLZ) and Lakeshore Media, LLC, the current and former licensee, respectively, of Station KWCX-FM. While the AFR was pending, KZLZ filed a minor modification application to change the community of license of Station KWCX-FM from Willcox to Tanque Verde, Arizona. Once the requested facility modification to Station KWCX-FM was granted, the assignment at Willcox was deleted, and this in turn rendered moot any Section 307(b) comparison between Davis-Monthan AFB and the deleted Willcox assignment.

DATES: Effective October 6, 2016.

FOR FURTHER INFORMATION CONTACT: Adrienne Denysyk, Media Bureau, (202) 418-2700.

SUPPLEMENTARY INFORMATION: This is a synopsis of the Bureau's Letter, DA 16-1062, released September 21, 2016. The full text of this document is available for inspection and copying during normal business hours in the FCC Reference Information Center (Room CY-A257), 445 12th Street SW., Washington, DC 20554.

This document does not contain information collection requirements subject to the Paperwork Reduction Act of 1995, Public Law 104-13. This document is not subject to the Congressional Review Act. (The Commission, is, therefore, not required to submit a copy of the Letter to GAO, pursuant to the Congressional Review Act, see 5 U.S.C. 801(a)(1)(A) because the Application for Review was dismissed as moot.)

Federal Communications Commission.
Nazifa Sawez,
Assistant Chief, Audio Division, Media Bureau.

[FR Doc. 2016-24174 Filed 10-5-16; 8:45 am]

BILLING CODE 6712-01-P